DEPARTMENT OF HOMELAND SECURITY

Customs and Border Protection

Departmental Advisory Committee on Commercial Operations of Customs and Border Protection and Related Functions (COAC)

ACTION: Notice of meeting.

SUMMARY: This notice announces the date, time, and location for the fifth meeting of the ninth term of the Departmental Advisory Committee on Commercial Operations of Customs and Border Protection and Related Functions (COAC), and the expected agenda for its consideration.

DATES: The next meeting of the COAC will be held on Thursday, February 9, 2006, 9 a.m. to 1 p.m.

ADDRESSES: The meeting will be held in the Pavilion Room of the Ronald Reagan Building, 1300 Pennsylvania Avenue, NW., Washington, DC.

FOR FURTHER INFORMATION CONTACT: Ms. Monica Frazier, Office of the Assistant Secretary for Policy, Department of Homeland Security, Washington, DC 20528, telephone 202-282-8431; facsimile 202-282-8504. Members of the public may submit written comments at any time before or after the meeting to the contact person for consideration by this Advisory Committee.

SUPPLEMENTARY INFORMATION: The fifth meeting of the ninth term of the Departmental Advisory Committee on Commercial Operations of Customs and Border Protection and Related Functions (COAC) will be held at the date, time and location specified above. This notice also announces the expected agenda for that meeting below. This meeting is open to the public; however, participation in COAC deliberations is limited to COAC members, Homeland Security and Treasury Department officials, and persons invited to attend the meeting for special presentations. Since seating is limited, all persons attending this meeting should provide notice preferably by close of business Monday, February 6, 2006, to Ms. Monica Frazier, Office of the Assistant Secretary for Policy, Department of Homeland Security, Washington, DC 20528, telephone 202-282-8431; facsimile 202-282-8504.

Information on Services for Individuals with Disabilities: For information on facilities or services for individuals with disabilities or to request special assistance at the meeting, contact Ms. Monica Frazier, Office of the Assistant Secretary for Policy, Department of Homeland Security, Washington, DC 20528, telephone 202-282-8431; facsimile 202-282-8504, as soon as possible.

Draft Agenda

1. Introductory Remarks

2. WCO (World Customs Organization) “Security Framework” Implementation

3. Update on HSPD-13 (Homeland Security Presidential Directive-13) &National Maritime Security Advisory Committee

4. Security Subcommittee: C-TPAT (Customs-Trade Partnership Against Terrorism) Carrier Criteria (Ocean and Truck)

5. Green Lane Task Force—Benefits Review

6. Textiles & Apparel Entry Processing

7. ACE (Automated Commercial Environment)/ITDS (International Trade Data System)

8. New Action Items

9. Adjourn

Dated: January 18, 2006.
Stewart A. Baker,
Assistant Secretary, Office of Policy, United States Department of Homeland Security.

[FR Doc. 06-557 Filed 1-20-06; 8:45 am]

BILLING CODE 9111-14-P